DEPARTMENT OF AGRICULTURE

Forest Service

Second Notice of Intent To Issue Forest Order Closing Areas Near Beattie Gulch Trailhead and McConnell Fishing Access North and West of Gardiner, Montana to the Discharge of Firearms

AGENCY: Forest Service, USDA.

ACTION: Notice.

SUMMARY: The U.S. Department of Agriculture, Forest Service provides this Second Notice of Intent to issue an order closing the Beattie Gulch Trailhead and McConnell Fishing Access areas north and west of Gardiner, Montana to the discharge of firearms. The purpose of the Second Notice is to provide a correct mailing address for comments submitted by mail and reopen the public comment period for this proposed forest order for an additional 60 days. All comments submitted electronically during the previous comment 60-day period beginning on June 24, 2020, remain valid and need not be resubmitted. All comments submitted by mail during the previous comment period should be resubmitted to ensure consideration.

DATES: The 60-day public comment period will begin January 13, 2021. The notice of the opportunity for public comment, including directions on how to submit comments, is posted at www.fs.usda.gov/main/custergallatin and www.fs.usda.gov/about-agency/regulations-policies.

ADDRESSES: The proposed forest order and the justification for the forest order are available on the Forest Service's website at www.fs.usda.gov/main/custergallatin and www.fs.usda.gov/about-agency/regulations-policies.

FOR FURTHER INFORMATION CONTACT: Mike Thom, District Ranger, 406-848-7375, extension 22, michael.thom@usda.gov.

Individuals who use TDD may call the Federal Relay Service (FRS) at 1-800-877-8339, 24 hours a day, every day of the year, including holidays.

SUPPLEMENTARY INFORMATION:

I. Advance Notice and Public Comment Procedures

Section 4103 of the John D. Dingell, Jr., Conservation, Management, and Recreation Act (Pub. L. 116-9) requires that the Secretary of Agriculture, acting through the Chief of the Forest Service, provide public notice and comment before permanently or temporarily closing any National Forest System lands to hunting, fishing, or recreational shooting. Section 4103 applies to the proposed forest order closing areas near Beattie Gulch and McConnell Fishing Access north and west of Gardiner, Montana to the discharge of firearms. On June 17, 2020, the Forest Service published advanced notice in the Federal Register of the 60-day public comment period beginning on June 24, 2020, for this proposed forest order. The Forest Service now provides this second advance notice that it is reopening the public comment period for this proposed forest order for 60 additional days. The purpose of reopening this public comment period is to provide the correct mailing address for comments submitted by mail. The public notice and comment process in section 4103(b)(2) requires the Secretary to publish a notice of intent, in the Federal Register, of the proposed closure in advance of the public comment period for the closure. This notice meets the requirement to publish a notice of intent in the Federal Register in advance of the public comment period.

Following the notice of intent, section 4103(b)(2) requires an opportunity for public comment. Because the proposed forest order would permanently close areas near Beattie Gulch and McConnell Fishing Access, north and west of Gardiner, Montana to the discharge of firearms, the public comment period must be not less than 60 days. The solicitation for public comment will be posted on www.fs.usda.gov/main/custergallatin and www.fs.usda.gov/about-agency/regulations-policies.

Section 4103(b)(2) requires the Secretary to respond to public comments received on the proposed forest order, explain how the Secretary resolved any significant issues raised by the comments, and show how the resolution led to the closure. The response to comments on the proposed order, justification for the final order, and the issuance of the final forest order will all be posted on the following website: www.fs.usda.gov/main/custergallatin and www.fs.usda.gov/about-agency/regulations-policies.

II. Background and Need for Forest Order

This permanent shooting closure is needed to address potentially imminent harm to human health and safety resulting from the discharge of firearms in these small areas. Bow hunting/shooting would still be allowed. These areas total 23 acres in size collectively, Beattie Gulch is 18 acres and McConnell Fishing access totals 5 acres. The size of both areas has been limited to the minimum necessary to protect public health and safety. The Beattie Gulch area and McConnell Fishing Access permanent closures are needed to address concerns resulting from the discharge of firearms toward developed facilities including the Old Yellowstone Trail South, private property and residences, the Yellowstone River, a powerline, and Montana State Highway 89.

The proposed forest order and the justification for the forest order are available on the Forest Service's websites at www.fs.usda.gov/main/custergallatin and www.fs.usda.gov/about-agency/regulations-policies.

Tina Johna Terrell,
Associate Deputy Chief, National Forest System.

[FR Doc. 2021-00394 Filed 1-11-21; 8:45 am]

BILLING CODE 3411-15-P